DEPARTMENT OF COMMERCE

Foreign-Trade Zones Board

[Docket 7-2009]

Foreign-Trade Zone 57—Mecklenburg County, NC; Termination of Review of Application for Subzone; FMS Enterprises USA, Inc. (Para-Aramid UD Shield); Lincolnton, NC

Notice is hereby given of termination of review of a subzone application submitted by the Charlotte Regional Partnership, grantee of FTZ 57, requesting special-purpose subzone status with manufacturing authority for para-aramid UD shield at the manufacturing facility of FMS Enterprises USA, Inc., located in Lincolnton, North Carolina. The application was filed on February 12, 2009 (74 FR 8904, 2/27/2009).

The termination is the result of changed circumstances, and the case has been closed without prejudice.

Dated: September 27, 2011.
Andrew McGilvray,
Executive Secretary.

[FR Doc. 2011-25428 Filed 9-30-11; 8:45 am]

BILLING CODE P